Title 3—

The President

Proclamation 8546 of August 13, 2010

75th Anniversary of the Social Security Act

By the President of the United States of America

A Proclamation

On August 14, 1935, President Franklin D. Roosevelt signed into law the Social Security Act to protect ordinary Americans “against the loss of a job and against poverty-ridden old age.” Our Nation was entrenched in the Great Depression. Unemployment neared 20 percent, and millions of Americans struggled to provide for themselves and their families. In the midst of all this, the Social Security Act brought hope to some of our most vulnerable citizens, giving elderly Americans income security and bringing us closer to President Roosevelt’s vision of a Nation free from want or fear.

As our country recovers from one of the greatest economic challenges since that time, we are grateful for President Roosevelt’s perseverance, and for the countless public servants whose efforts produced the Social Security program we know today. Seventy-five years later, Social Security remains a safety net for seniors and a source of resilience for all Americans. Since 1935, it has been expanded to include dependent and survivor benefits, disability insurance, and guaranteed medical insurance for seniors through Medicare. It is a lasting promise that we can retire with dignity and peace of mind, that workers who become disabled can support themselves, and that families who suffer the loss of a loved one will not live in poverty.

My Administration is committed to strengthening our retirement system and protecting Social Security as a reliable income source for seniors, workers who develop disabilities, and dependents. After a lifetime of contributions to our Nation and its economy, Americans have earned this support. The new health care law, the Affordable Care Act, helps sustain this commitment and improves the long-term outlook of the Social Security program. My Administration is dedicated to safeguarding Social Security’s promise of retirement with dignity and security.

On the 75th anniversary of the Social Security Act, let us ensure we continue to preserve this program’s original purpose in the 21st century. Together, we can give our children and our grandchildren the same protections we have cherished for decades, and in doing so, lead our Nation to a brighter day.

NOW, THEREFORE, I, BARACK OBAMA, President of the United States of America, by virtue of the authority vested in me by the Constitution and the laws of the United States, do hereby proclaim August 14, 2010, as the 75th Anniversary of the Social Security Act. I call upon all Americans to observe this day with appropriate ceremonies and activities that recognize the historic legacy of the Social Security Act, as well as the vital safety net it provides to millions of Americans.

IN WITNESS WHEREOF, I have hereunto set my hand this thirteenth day of August, in the year of our Lord two thousand ten, and of the Independence of the United States of America the two hundred and thirty-fifth.

[FR Doc. 2010-20594

Filed 8-17-10; 8:45 am]

Billing code 3195-W0-P